INTERNATIONAL TRADE COMMISSION

[Investigation. No. 337-TA-1413]

Certain Wireless Front-End Modules and Devices Containing the Same; Notice of Institution of Investigation

AGENCY: International Trade Commission.

ACTION: Notice.

SUMMARY: Notice is hereby given that a complaint was filed with the U.S. International Trade Commission on July 17, 2024, under section 337 of the Tariff Act of 1930, as amended, on behalf of Skyworks Solutions, Inc. of Irvine, California; Skyworks Solutions Canada, Inc. of Canada; and Skyworks Global Pte. Ltd. of Singapore. A letter supplementing the complaint was filed on August 5, 2024. The complaint, as supplemented, alleges violations of section 337 based upon the importation into the United States, the sale for importation, and the sale within the United States after importation of certain wireless front-end modules and devices containing the same by reason of the infringement of certain claims of U.S. Patent No. 8,717,101 (“the '101 patent”); U.S. Patent No. 9,917,563 (“the '563 patent”); U.S. Patent No. 7,409,200 (“the '200 patent”); U.S. Patent No. 9,450,579 (“the '579 patent”); and U.S. Patent No. 9,148,194 (“the '194 patent”). The complaint, as supplemented, further alleges that an industry in the United States exists or is in the process of being established as required by the applicable Federal Statute. The complainants request that the Commission institute an investigation and, after the investigation, issue a general exclusion order, or in the alternative a limited exclusion order, and cease and desist orders.

ADDRESSES: The complaint, as supplemented, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Scope of Investigation: Having considered the complaint, the U.S. International Trade Commission, on August 16, 2024, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 2, 10, 11, 17, 18, and 20-22 of the '101 patent; claims 14, 15, 17, and 20 of the '563 patent; claims 1, 2, 6, 10-12, 15, 18-20, and 23-25 of the '200 patent; claims 1 and 7 of the '579 patent; and claim 4 of the '194 patent, and whether an industry in the United States exists or is in the process of being established as required by subsection (a)(2) of section 337;

(2) Pursuant to section 210.10(b)(1) of the Commission's Rules of Practice and Procedure, 19 CFR 210.10(b)(1), the plain language description of the accused products or category of accused products, which defines the scope of the investigation, is “wireless front-end modules and wireless routers”;

(3) For the purpose of the investigation so instituted, the following are hereby named as parties upon which this notice of investigation shall be served:

(a) The complainants are:

Skyworks Solutions, Inc., 5260 California Avenue, Irvine, CA 92617

Skyworks Solutions Canada, Inc., 1135 Innovation Drive, Ottawa, Ontario K2K 3G7, Canada

Skyworks Global Pte. Ltd., 3 Bedok South Rd., Singapore 469269

(b) The respondents are the following entities alleged to be in violation of section 337, and are the parties upon which the complaint is to be served:

Kangxi Communication Technologies (Shanghai) Co., Ltd., 5th Floor, Building 10, No. 399 Keyuan Road, Pudong New Area, Shanghai, China

Grand Chip Labs, Inc., 14151 Newport Ave., Suite 204, Tustin, CA 92780

D-Link Corporation, 4F 289 Sinhu 3rd Road, Neihu District, Taipei, 114 Taiwan

D-Link Systems Inc., 14420 Myford Road, Suite 100, Irvine, CA 92606

Ruijie Networks Co., Ltd., Building 19, Juyuanzhou Industrial Park, No. 618, Jinshan Road, Cangshan District, Fuzhou, Fujian, China

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint, as supplemented, and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.

Authority: The authority for institution of this investigation is contained in section 337 of the Tariff Act of 1930, as amended, 19 U.S.C. 1337, and in section 210.10 of the Commission's Rules of Practice and Procedure, 19 CFR 210.10 (2024).

Issued: August 16, 2024.
Susan Orndoff,
Supervisory Attorney.

[FR Doc. 2024-18817 Filed 8-21-24; 8:45 am]

BILLING CODE 7020-02-P